DEPARTMENT OF THE INTERIOR

Bureau of Land Management

[WY-070-08-1610-DO]

Notice of Intent To Revise a Resource Management Plan for the Buffalo Field Office, Wyoming, and Prepare an Associated Environmental Impact Statement

AGENCY: Bureau of Land Management, Interior.

ACTION: Notice of intent.

SUMMARY: The Bureau of Land Management (BLM) Field Office, Buffalo, Wyoming, intends to revise a Resource Management Plan (RMP) and prepare an associated Environmental Impact Statement (EIS) for the Buffalo Field Office and by this notice is announcing the beginning of the scoping process and soliciting input on the identification of issues, proposed planning criteria, and calling for resource information. The RMP will replace the existing Buffalo Resource Management Plan of 1985.

DATES: The BLM will announce public scoping meetings to identify relevant issues through local news media, newsletters, and the BLM Web site http://www.blm.gov/wy/st/en/programs/Planning/rmps/buffalo.html at least 15 days prior to the first meeting. We will provide additional opportunities for public participation upon publication of the Draft RMP/EIS, including a 90-day public comment period.

ADDRESSES: You may submit comments on issues, planning criteria, and resource information by any of the following methods:

• Web site: http://www.blm.gov/wy/st/en/programs/Planning/rmps/buffalo.html.

• E-mail: BRMP_Rev_WYMail@blm.gov.

• Fax: (307) 684-1122.

• Mail: Buffalo RMP Revision, Attn: Thomas Bills, RMP Technical Coordinator, Buffalo Field Office, 1425 Fort Street, Buffalo, WY 82834.

Documents pertinent to this proposal may be examined at the BLM Buffalo Field Office.

FOR FURTHER INFORMATION: For further information and/or to have your name added to our mailing list, contact Linda Slone, RMP Project Manager; Telephone (307) 261-7520; e-mail linda_slone@blm.gov .

SUPPLEMENTARY INFORMATION: This document provides notice that the BLM Field Office, Buffalo, Wyoming, intends to revise an RMP and prepare an associated EIS for the Buffalo Field Office and announces the beginning of the scoping process and seeks public input on issues, planning criteria, and resource information. The planning area is located in Campbell, Johnson, and Sheridan counties, Wyoming and encompasses approximately 800,000 acres of public surface land and 4.7 million acres of Federal mineral estate. The purpose of the public scoping process is to determine relevant issues that will influence the scope of the environmental analysis, including alternatives, and guide the planning process.

1. Preliminary Issues

Preliminary issues for the planning area have been identified by BLM personnel, other agencies, and in meetings with individuals and user groups. These issues are: Energy and mineral resource exploration and development; access to and transportation on BLM lands; recreation and off-highway vehicle management; wildlife habitat management; management and the cumulative effect of land uses and human activities on threatened, endangered, candidate, and sensitive species and their habitats; vegetation, including impacts of invasive non-native species; management of cultural and paleontological resources, including historic trails; landownership adjustments; fire management; livestock grazing; visual resource management; Areas of Critical Environmental Concern (ACEC), Wilderness Study Areas (WSA), Wild and Scenic Rivers (W&SR), or other special management areas; and air and water quality.

2. Preliminary Planning Criteria

Proposed planning criteria are the following:

1. The proposed RMP will be in compliance with Federal Land Policy and Management Act and all other applicable laws, regulations, and policies.

2. Impacts from the management alternatives considered in the revised RMP will be analyzed in an EIS developed in accordance with regulations at 43 CFR 1610 and 40 CFR 1500.

3. Lands covered in the RMP will be public surface land and Federal mineral estate managed by BLM. No decisions will be made relative to non-BLM administered lands.

4. The planning process will follow 10 stages of an EIS-level planning process: conducting scoping; development of a Management Situation Analysis report; formulation of alternatives; analysis of the alternatives' effects; selection of a preferred alternative; publication of a Draft RMP/EIS, providing a 90-day public comment period; preparation and publication of a Proposed Plan/Final EIS, providing a 30-day public protest period; and preparation of a Record of Decision and Approved RMP. For specific information, please see the Land Use Planning Handbook, H-1601-1.

5. For program specific guidance of land use planning level decisions, the process will follow the Land Use Planning Manual 1601 and Handbook H-1601-1, Appendix C.

6. Broad-based public participation will be an integral part of the planning and EIS process.

7. Decisions in the plan will strive to be compatible with the existing plans and policies of adjacent local, State, Federal, and Tribal agencies as long as the decisions are consistent with the purposes, policies, and programs of Federal law, and regulations applicable to public lands.

8. The RMP will recognize the State's responsibility and authority to manage wildlife. BLM will coordinate with the Wyoming Game and Fish Department.

9. The National Sage-grouse Strategy requires that impacts to sagebrush habitat and sagebrush-dependent wildlife species be analyzed and considered in BLM land use planning efforts for public lands with sagebrush habitat in the planning area.

10. The RMP will recognize valid and existing rights.

11. The RMP/EIS will incorporate management decisions brought forward from existing planning documents.

12. The planning team will work cooperatively and collaboratively with cooperating agencies and all other interested groups, agencies, and individuals.

13. The BLM and cooperating agencies will jointly develop alternatives for resolution of resource management issues and management concerns.

14. The planning process will incorporate the Standards for Healthy Rangelands and Guidelines for Livestock Grazing Management for Public Lands Administered by the Bureau of Land Management in the State of Wyoming as goal statements.

15. Areas with special environmental quality will be protected and if necessary designated as ACECs, W&SR, or other appropriate designations.

16. Any public land surface found to meet the suitability factors to be given further consideration for inclusion in the W&SR System will be addressed in the RMP revision effort in terms of developing interim management options in the alternatives for the EIS.

17. WSAs will continue to be managed under the Interim Management Policy (IMP) for Lands under Wilderness Review until Congress either designates all or portions of the WSA as wilderness or releases the lands from further wilderness consideration. It is no longer the policy of the BLM to make formal determinations regarding wilderness character, to designate additional WSAs through the RMP process, or to manage any lands other than existing WSAs in accordance with the Wilderness IMP.

18. Forest management strategies will be consistent with the Healthy Forests Restoration Act.

19. Fire Management strategies will be consistent with the Wyoming Fire Management Plan (2004).

20. GIS and metadata information will meet Federal Geographic Data Committee (FGDC) standards, as required by Executive Order 12906. All other applicable BLM data standards will also be followed.

21. The planning process will involve American Indian Tribal governments and will provide strategies for the protection of recognized traditional uses.

22. All proposed management actions will be based upon current scientific information, research and technology, as well as existing inventory and monitoring information.

23. The RMP will include adaptive management criteria and protocols to deal with future issues.

24. The planning process will use the Wyoming BLM Mitigation Guidelines to develop management options and alternatives and analyze their impacts, and as part of the planning criteria for developing the options and alternatives and for determining mitigation requirements.

25. A reasonable foreseeable development scenario for fluid minerals will be developed.

26. Planning and management direction will be focused on the relative values of resources and not the combination of uses that will give the greatest economic return or economic output.

27. Where practicable and timely for the planning effort, current scientific information, research, and new technologies will be considered.

28. Known areas in the Buffalo planning area with coal development potential are located in Campbell and Sheridan counties, Wyoming. Coal screening determinations were made on these areas and updated during planning efforts for the existing Buffalo RMP and the Thunder Basin National Grasslands Land and Resource Management Plan. No additional coal screening determinations with associated coal planning decisions are planned for the Buffalo RMP, unless public submissions of coal resource information or surface resource issues indicate a need to update these determinations.

29. The RMP/EIS will address the Pennaco Court Decision (Docket No. 02-CV-116-CAB) requiring analysis of coalbed natural gas development for fluid mineral leasing decisions in the Powder River Basin.

3. Public Participation

You may submit comments on issues, planning criteria, and resource information in writing to the BLM at any public scoping meeting, or you may submit them to the BLM using one of the methods listed in the ADDRESSES section above. To be most helpful, you should submit comments within 30 days after the last public meeting. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

4. Categorization of Issues

The BLM will evaluate identified issues to be addressed in the plan, and will place them into one of three categories:

1. Issues to be resolved in the plan;

2. Issues to be resolved through policy or administrative action; or

3. Issues beyond the scope of this plan.

The BLM will provide an explanation in the plan as to why we placed an issue in category two or three. The public is also encouraged to help identify any management questions and concerns that should be addressed in the plan. The BLM will work collaboratively with interested parties to identify the management decisions that are best suited to local, regional, and national needs and concerns.

5. Call for Coal and Other Resource Information

Parties interested in leasing and development of Federal coal in the planning area should provide coal resource data for their area(s) of interest. Specifically, information is requested on the location, quality, and quantity of Federal coal with development potential, and on surface resource values related to the 20 coal unsuitability criteria described in 43 CFR 3461. This information will be used for any necessary updating of coal screening determination (43 CFR 3420.1-4) in the area and in the environmental analysis.

In addition to coal resource data, the BLM seeks resource information and data for other public land values (e.g., air quality, cultural and historic resources, fire/fuels, fisheries, forestry, lands and realty, non-energy minerals and geology, oil and gas (including coalbed natural gas), paleontology, rangeland management, recreation, soil, water, and wildlife) in the planning area. The purpose of this request is to assure that the planning effort has sufficient information and data to consider a reasonable range of resource uses, management options, and alternatives for management of the public lands.

Proprietary data marked as confidential may be submitted in response to this call for coal and other resource information. Please submit all proprietary information submissions to the Buffalo Field Manager at the address listed above. The BLM will treat submissions marked as “Confidential” in accordance with the laws and regulations governing the confidentiality of such information.

6. Interdisciplinary Team Approach

The BLM will use an interdisciplinary approach to develop the plan in order to consider the variety of resource issues and concerns identified. Specialists with expertise in the following disciplines will be involved in the planning process: Air quality, archaeology, fire/fuels, fisheries and wildlife, forestry and other vegetative communities, hydrology, hazardous materials, lands and realty, minerals and geology, paleontology, rangeland management, recreation, soils, sociology, and economics.

Authority: 43 CFR 1610.2(c) and 3420.1-2.

Donald A. Simpson,
Acting State Director.

[FR Doc. E8-27029 Filed 11-13-08; 8:45 am]

BILLING CODE 4310-22-P